ENVIRONMENTAL PROTECTION AGENCY

[FRL-7940-5]

Notice of Proposed Administrative Settlement Pursuant to the Comprehensive Environmental Response, Compensation, and Liability Act, as Amended by the Superfund Amendments and Reauthorization Act (PRC Patterson Superfund Removal Site)

AGENCY: Environmental Protection Agency.

ACTION: Notice, request for public comments.

SUMMARY: In accordance with Section 122(i) of the Comprehensive Environmental Response, Compensation, and Liability Act, as amended (“CERCLA”), 42 U.S.C. 9622(i), notice is hereby given of a proposed Administrative Order on Consent (“AOC, Region 9 Docket No. 2005-0005) pursuant to Section 122(h) of CERCLA concerning the PRC PATTERSON SUPERFUND REMOVAL SITE (the “Site”), located in Patterson, California. The respondent to the AOC is the Ramos Environmental Services (“Ramos”). Through the proposed AOC, Ramos will reimburse the United States $70,000 in response costs incurred at the Site. The AOC provides Ramos with a covenant not to sue and contribution protection for the removal action at the Site. This AOC follows three previous administrative settlements, and will be the last enforcement action regarding this Site. Ramos is the last remaining viable party that is potentially responsible for federal costs at the Site, and is resolving its liability after EPA determined its financial strength and ability to make a reimbursement payment. In total, EPA will have recovered $570,001 for this Site, leaving an unrecovered balance of approximately $200,000.

For thirty (30) days following the date of publication of this Notice, the Agency will receive written comments relating to the proposed AOC. The Agency's response to any comments received will be available for public inspection at EPA'S Region IX offices, located at 75 Hawthorne Street, San Francisco, California 94105.

DATES: Comments must be submitted on or before 30 days following the date of publication of the Notice.

ADDRESSES: The proposed AOC may be obtained from Judith Winchell, Docket Clerk, telephone (415) 972-3124. Comments regarding the proposed Agreement should be addressed to Judith Winchell (SFD-7) at EPA Region IX, 75 Hawthorne Street, San Francisco, California 94105, and should reference the PRC Patterson Superfund Removal Site, Patterson, California, and USEPA Docket No. 2005-0005.

FOR FURTHER INFORMATION CONTACT: J. Andrew Helmlinger, Office of Regional Counsel, (415) 972-3904, U.S. Environmental Protection Agency, Region 9, 75 Hawthorne Street, San Francisco, CA 94105.

Dated: July 19, 2005.
Kay Lawerence,
Acting Director Superfund Division.

[FR Doc. 05-14897 Filed 7-26-05; 8:45 am]

BILLING CODE 6560-50-P